DEPARTMENT OF LABOR

Employment and Training Administration

[TA-W-65,843]

Solar World, Vancouver, WA; Notice of Termination of Investigation

Pursuant to Section 221 of the Trade Act of 1974, as amended, an investigation was initiated on April 23, 2009, in response to a worker petition filed on behalf of workers at Solar World, Vancouver, Washington.

The petitioners have requested that the petition be withdrawn. Consequently, the investigation has been terminated.

Signed at Washington, DC, this 4th day of May 2009.
Richard Church,
Certifying Officer, Division of Trade Adjustment Assistance.

[FR Doc. E9-13459 Filed 6-8-09; 8:45 am]

BILLING CODE 4510-FN-P